Presidential Determination No. 2018-04 of January 23, 2018

Presidential Determination Pursuant to Section 4533(a)(5) of the Defense Production Act of 1950

Memorandum for the Secretary of Defense

By the authority vested in me as President by the Constitution and the laws of the United States, including section 4533(a)(5) of the Defense Production Act of 1950 (the “Act”)(50 U.S.C. 4533(a)(5)), I hereby determine, pursuant to section 4533(a)(5) of the Act, that critical technology item shortfalls affecting thin-wall castings for military applications are critical to national defense.

Without Presidential action under this Act, the United States defense industrial base cannot reasonably be expected to adequately provide those capabilities or critical technology items in a timely manner. Further, purchases, purchase commitments, or other action pursuant to section 4533 of the Act are the most cost-effective, expedient, and practical alternative method for meeting the need for those capabilities or critical technology items.

You are authorized and directed to publish this memorandum in the Federal Register.

THE WHITE HOUSE,

Washington, January 23, 2018

[FR Doc. 2018-01554

Filed 1-24-18; 11:15 am]

Billing code 5001-06-P